DEPARTMENT OF HEALTH AND HUMAN SERVICES

Centers for Medicare & Medicaid Services

[Document Identifier CMS-10136]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Reinstatement of a previously approved collection; Title of Information Collection: Physician Group Practice Transition Demonstration (PGP-TD) Performance Assessment Tool (“PAT”); Use: The Physician Group Practice (PGP) Demonstration was mandated by section 412 of the Medicare, Medicaid, and SCHIP Benefits Improvement and Protection Act of 2000 and is the precursor to the Medicare Shared Savings Program. Section 1899(k) of the Social Security Act, as added by section 10307(k) of the Affordable Care Act (as amended by section 10307 of the Health Care and Education Reconciliation Act of 2010), states “the Secretary may enter into an agreement with an ACO under the Demonstration under section 1866A, subject to rebasing and other modifications deemed appropriate by the Secretary.” The Demonstration extension is entitled the PGP Transition Demonstration (PGP-TD).

We are seeking reinstatement of the collection of information as it was erroneously discontinued. Only a portion of the information collection requirements previously approved under 0938-0941 should have been discontinued. The collection of information is strictly voluntary in nature and was developed in conjunction with the industry and Demonstration participants. Only organizations that voluntarily respond and elect to participate in the Demonstration will be reporting the measures. Moreover, CMS will not be using this information to regulate or sanction but rather to provide financial incentives for improving the quality of care. The collection of information to be used under this extension is being used to test quality data collection systems and determine incentive payment levels to participating physician group practices participating in the PGP-TD. In addition, this data will be used to evaluate the effectiveness of these payment models and provide insight into the most appropriate way for the agency to collect clinical information. Form Number: CMS-10136 (OCN: 0938-0941); Frequency: Yearly; Affected Public: Private Sector—Business or other for-profits and not-for-profit institutions. Number of Respondents: 10. Number of Responses: 10. Total Annual Hours: 790. (For policy questions regarding this collection contact Heather Grimsley at 410-786-1048. For all other issues call 410-786-1326.)

To obtain copies of the supporting statement and any related forms for the proposed paperwork collections referenced above, access CMS Web Site address at http://www.cms.hhs.gov/PaperworkReductionActof1995, or Email your request, including your address, phone number, OMB number, and CMS document identifier, to Paperwork@cms.hhs.gov, or call the Reports Clearance Office on (410) 786-1326.

To be assured consideration, comments and recommendations for the proposed information collections must be received by the OMB desk officer at the address below, no later than 5 p.m. on June 18, 2012.

OMB, Office of Information and Regulatory Affairs, Attention: CMS Desk Officer, Fax Number: (202) 395-6974. Email: OIRA_submission@omb.eop.gov.

Dated: May 15, 2012.
Martique Jones,
Director, Regulations Development Group, Division B, Office of Strategic Operations and Regulatory Affairs.

[FR Doc. 2012-12078 Filed 5-17-12; 8:45 am]

BILLING CODE 4120-01-P